DEPARTMENT OF THE INTERIOR

Bureau of Land Management

[WO-250-1231-EB-01-24 1A]

OMB Approval Number 1004-0119; Information Collection Submitted to the Office of Management and Budget Under the Paperwork Reduction Act

The Bureau of Land Management (BLM) has submitted the proposed collection of information listed below to the Office of Management and Budget (OMB) for approval under provisions of the Paperwork Reduction Act (44 U.S.C. 3501 et seq.). On November 30, 2000, the BLM published a notice in the Federal Register (65 FR 71330) requesting comments on this proposed collection. The comment period ended on January 29, 2001. The BLM received no comments from the public in response to that notice. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Officer, (1004-0119), Office of Information and Regulatory Affairs, Washington, DC 20503. Please provide a copy of your comments to the Bureau Information Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Special Recreation Application and Permit (43 CFR 8370).

OMB Approval Number: 1004-0119.

Bureau Form Number: 8370-1.

Abstract: Respondents supply identifying information on proposed commercial, competitive, or individual recreational use when required to determine the eligibility for a permit. BLM uses this information to authorize the requested use and determine the appropriate fees. BLM also uses this information to tabulate recreation use data for the annual Federal Recreation Fee Report as required by the Land and Water Conservation Act.

Frequency: On occasion.

Description of Respondents: Recreation visitors to areas of the public lands and related waters where BLM requires special recreation permits.

Estimated Completion Time: 30 minutes.

Annual Responses: 31,000.

Filing Fee Per Response: 0.

Annual Burden Hours: 15,500.

Bureau Clearance Officer: Michael Schwartz, (202) 452-5033.

Dated: March 20, 2001.
Michael H. Schwartz,
BLM Information Collection Clearance Officer.

[FR Doc. 01-9273 Filed 4-13-01; 8:45 am]

BILLING CODE 4310-84-M